FEDERAL RESERVE SYSTEM

Change in Bank Control Notices; Formations of, Acquisitions by, and Mergers of Bank Holding Companies; Correction

This notice corrects a notice (FR Doc. 2016-20201) published on page 57909 of the issue for Wednesday, August 24, 2016.

Under the Federal Reserve Bank of San Francisco, heading, the entry for The Living Trust for the Benefit of Stephanie M. Smith, Helen Langer Smith, and Cynthia L. Smith; Kitsap, Washington, is revised to read as follows:

A. Federal Reserve Bank of San Francisco (Gerald C. Tsai, Director, Applications and Enforcement) 101 Market Street, San Francisco, California 94105-1579:

1. The Living Trust for the Benefit of Stephanie M. Smith, Brian S. Sato, Cynthia L. Smith, all from Mercer Island, Washington; Helen Langer Smith and Meredith P. Smith, both of Port Orchard, Washington, as Trustees for the Living Trust for the Benefit of Stephanie M. Smith; and Michael K. Pigors, Memphis, Tennessee, to retain additional shares of Olympic Bancorp, Inc., and thereby indirectly retain voting shares of Kitsap Bank, both of Port Orchard, Washington.

Comments on this application must be received by October 7, 2016.

Board of Governors of the Federal Reserve System, September 16, 2016.
Margaret M. Shanks,
Deputy Secretary of the Board.

[FR Doc. 2016-22734 Filed 9-20-16; 8:45 am]

BILLING CODE 6210-01-P